DEPARTMENT OF JUSTICE

Notice of Lodging of Consent Decree Pursuant to the Comprehensive Environmental Response, Compensation and Liability Act of 1980

In accordance with Departmental policy and 28 CFR 50.7, notice is hereby given that on Thursday, November 30, 2000, a consent decree was lodged in United States v. Ribi Immunochem Research, Inc., Civil Action No. 98-55-M-DWM, with the United States District Court for the District of Montana.

This consent decree, between the United States, the State of Montana, and Corixa Corporation (successor to Ribi Immunochem Research, Inc.), provides that Corixa Corporation will pay $2.65 million in settlement of its alleged liability to the United States and Montana for past and future response costs related to contamination of the Bitterroot Valley Sanitary Landfill (“BVSL”) in Hamilton, Montana. The United States will receive $1.1 million of this payment, Montana will receive $450,000, and $1.1 million will be placed in an escrow account, with at least $900,000 of this amount to be used by Montana to fund future response actions related to contamination of the Site.

The Department of Justice will receive comments relating to the proposed consent decree for a period of thirty days from the date of publication of this notice. Comments should be addressed to the Assistant Attorney General, Environment and Natural Resources Division, Department of Justice, Washington, DC 20530, and should refer to United States v. Ribi Immunochem Research, Inc., DOJ Ref. No. 90-11-3-1713. The proposed Consent Decree may be examined at the office of the United States Attorney, United States Attorney's Office Russell Smith Courthouse, 201 E. Broadway, Room 210, Missoula, Montana 59802. A copy of the Consent Decree may also be obtained by mail from the Department of Justice Consent Decree Library, P.O. Box 7611, Washington, DC 20044. When requesting a copy by mail, please enclose a check in the amount of $5.75 (twenty-five cents per page reproduction costs), payable to the “Consent Decree Library.”

Walker Smith,
Deputy Chief, Environmental Enforcement Section, Environment and Natural Resources Division.

[FR Doc. 00-31768 Filed 12-13-00; 8:45 am]

BILLING CODE 4410-15-M